COMMISSION ON CIVIL RIGHTS

Amended Notice of Public Meeting of the Arkansas Advisory Committee

Notice is hereby given, pursuant to the provisions of the rules and regulations of the U.S. Commission on Civil Rights, that a meeting of the Arkansas Advisory Committee to the Commission which was to have convened at 6 p.m. and adjourned at 8 p.m. on November 15, 2000, has been rescheduled. The meeting will convene at 6 p.m. and adjourn at 8 p.m. on January 18, 2001, at the Doubletree Hotel, 424 West Markham, Little Rock, Arkansas 72201. The purpose of the meeting is to plan future projects. The notice published in the Federal Register on October 26, 2000, FR Doc. 00-27458, Vol. 65, No. 208, p. 64202.

Persons desiring additional information, or planning a presentation to the Committee, should contact Melvin L. Jenkins, Director of the Central Regional Office, 913-551-1400 (TDD 913-551-1414). Hearing-impaired persons who will attend the meeting and require the services of a sign language interpreter should contact the Regional Office at least ten (10) working days before the scheduled date of the meeting.

The meeting will be conducted pursuant to the provisions of the rules and regulations of the Commission.

Dated at Washington, DC, December 14, 2000.
Edward A. Hailes, Jr.,
Acting General Counsel.

[FR Doc. 00-32470 Filed 12-20-00; 8:45 am]

BILLING CODE 6335-01-P